DEPARTMENT OF THE TREASURY

United States Mint

Establish Price Increase for United States Mint Numismatic Product

AGENCY: United States Mint, Department of the Treasury.

ACTION: Notice.

SUMMARY: The United States Mint is announcing new pricing for the United States Mint numismatic product in accordance with the table shown in Supplementary Information.

FOR FURTHER INFORMATION CONTACT: Angela Hicks, Marketing Specialist, Sales and Marketing Directorate; United States Mint; 801 9th Street NW, Washington, DC 20220; or call 202-354-7750.

SUPPLEMENTARY INFORMATION:

Product | 2021 retail price
United States Mint Coin Roll Collector Box | $21.50

Authority: 31 U.S.C. 5111, 5112, 5136, & 9701.

Eric Anderson,
Executive Secretary, United States Mint.

[FR Doc. 2021-04203 Filed 3-1-21; 8:45 am]

BILLING CODE P